DEPARTMENT OF AGRICULTURE

Forest Service

Humboldt Resource Advisory Committee (RAC)

AGENCY: Forest Service, USDA.

ACTION: Notice of meeting.

SUMMARY: The Humboldt Resource Advisory Committee (RAC) will meet in Eureka, California. The committee meeting is authorized under the Secure Rural Schools and Community Self-Determination Act (Pub. L. 110-343) and in compliance with the Federal Advisory Committee Act. The purpose of the meeting is to orient new committee members to the Secure Rural Schools Act, guidelines for Title II, and Federal Advisory Committee Act and receive public comment on the meeting subjects and proceedings.

DATES: The meeting will be held June 9, 2010, from 6 p.m. to 8:30 p.m.

ADDRESSES: The meeting will be held at the Six Rivers National Forest Office, 1330 Bayshore Way, Eureka, CA 95501.

FOR FURTHER INFORMATION CONTACT: Julie Ranieri, Committee Coordinator, Six Rivers National Forest, 1330 Bayshore Way, Eureka, CA 95503; (707) 441-3673; e-mail jranieri@fs.fed.us.

SUPPLEMENTARY INFORMATION: The meeting is open to the public. Agenda items to be covered include: (1) Welcome and Committee introductions; (2) Federal Advisory Committee Act overview; (3) review of Secure Rural Schools Act and discussion of requirements related to Title II funding; (4) discussion of Committee member, Designated Federal Official and RAC Coordinator roles; (5) selection of RAC Chair; (6) next meeting agenda, location, and date; and (7) receive public comment. An opportunity will be provided for the public to address the Committee.

Dated: May 12, 2010.
Tyrone Kelley,
Forest Supervisor.

[FR Doc. 2010-11803 Filed 5-17-10; 8:45 am]

BILLING CODE P